DEPARTMENT OF COMMERCE

Foreign-Trade Zones Board

[S-112-2016]

Approval of Expansion of Subzone 92B; Huntington Ingalls Industries; Pascagoula, Mississippi

On August 9, 2016, the Executive Secretary of the Foreign-Trade Zones (FTZ) Board docketed an application submitted by the Mississippi Coast Foreign Trade Zone, Inc., grantee of FTZ 92, requesting an additional site within Subzone 92B on behalf of Huntington Ingalls Industries. The existing subzone and the proposed site would be subject to the existing activation limit of FTZ 92.

The application was processed in accordance with the FTZ Act and Regulations, including notice in the Federal Register inviting public comment (81 FR 54041-54042, August 15, 2016). The FTZ staff examiner reviewed the application and determined that it meets the criteria for approval.

Pursuant to the authority delegated to the FTZ Board's Executive Secretary (15 CFR Sec. 400.36(f)), the application to expand Subzone 92B is approved, subject to the FTZ Act and the Board's regulations, including Section 400.13, and further subject to FTZ 92's 2,000-acre activation limit.

Dated: November 8, 2016.
Andrew McGilvray,
Executive Secretary.

[FR Doc. 2016-27568 Filed 11-15-16; 8:45 am]

BILLING CODE 3510-DS-P